DEPARTMENT OF STATE

[Public Notice 3303]

Culturally Significant Objects Imported for Exhibition Determinations: “Frida Kahlo, Diego Rivera, and Twentieth-Century Mexican Art: The Jacques and Natasha Gelman Collection”

DEPARTMENT: United States Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681 et seq.), Delegation of Authority No. 234 of October 1, 1999 (64 FR 56014), and Delegation of Authority No. 236 of October 19, 1999, as amended by Delegation of Authority No. 236-1 of November 9, 1999, I hereby determine that the objects to be included in the exhibit, “Frida Kahlo, Diego Rivera, and Twentieth-Century Mexican Art: The Jacques and Natasha Gelman Collection,” imported from abroad for the temporary exhibition without profit within the United States, are of cultural significance. These objects are imported pursuant to a loan agreement with a foreign lender. I also determine that the temporary exhibition or display of the exhibit objects at the Museum of Contemporary Art, San Diego, CA, from on or about May 14, 2000, to on or about September 4, 2000, at the Dallas Museum of Art, Dallas, TX, from on or about October 8, 2000, to on or about January 28, 2001, and at the Phoenix Art Museum, Phoenix, AZ, from on or about April 7, 2001 to on or about July, 1, 2001, is in the national interest. Public Notice of these determinations is ordered to be published in the Federal Register.

FOR FURTHER INFORMATION CONTACT: For further information, including a list of exhibit objects, contact Paul W. Manning, Attorney-Adviser, Office of the Legal Adviser, 202/619-5997, and the address is Room 700, United States Department of State, 301 4th Street, SW, Washington, DC 20547-0001.

Dated: April 21, 2000.
William B. Bader,
Assistant Secretary for Educational and Cultural Affairs, United States Department of State.

[FR Doc. 00-10794 Filed 4-28-00; 8:45 am]

BILLING CODE 4710-08-P